DEPARTMENT OF TRANSPORTATION

Coast Guard

33 CFR Part 117

[CGD01-01-008]

Drawbridge Operation Regulations: Harlem River, NY

AGENCY: Coast Guard, DOT.

ACTION: Notice of temporary deviation from regulations.

SUMMARY: The Commander, First Coast Guard District, has issued a temporary deviation from the drawbridge operation regulations governing the operation of the Macombs Dam Bridge, at mile 3.2, across the Harlem River at New York City, New York. This deviation allows the bridge owner to keep the bridge in the closed position from February 1, 2001 through April 1, 2001. This action is necessary to facilitate maintenance at the bridge.

DATES: This deviation is effective from February 1, 2001 through April 1, 2001.

FOR FURTHER INFORMATION CONTACT: Joe Arca, Project Officer, First Coast Guard District, at (212) 668-7165.

SUPPLEMENTARY INFORMATION: The Macombs Dam Bridge, at mile 3.2, across the Harlem River, has a vertical clearance of 27 feet at mean high water, and 32 feet at mean low water in the closed position. The existing drawbridge operating regulations are listed at 33 CFR 117.789(c).

The bridge owner, New York City Department of Transportation (NYCDOT), requested a temporary deviation from the drawbridge operating regulations to facilitate the necessary structural maintenance at the bridge. This deviation from the operating regulations allows the bridge owner to keep the bridge in the closed position from February 1, 2001 through April 1, 2001.

Thirty days notice to the Coast Guard for approval of this maintenance repair was not given by the bridge owner and was not required because this work involves vital, unscheduled maintenance that must be performed without undue delay.

Vessels that can pass under the bridge without an opening may do so at all times during the closed period.

In accordance with 33 CFR 117.35(c), this work will be performed with all due speed in order to return the bridge to normal operation as soon as possible. This deviation from the operating regulations is authorized under 33 CFR 117.35.

Dated: January 25, 2001.
G.N. Naccara,
Rear Admiral, U.S. Coast Guard Commander, First Coast Guard District.

[FR Doc. 01-3109 Filed 2-6-01; 8:45 am]

BILLING CODE 4910-15-P